DEPARTMENT OF COMMERCE

Foreign-Trade Zones Board

[Order No. 1296]

Approval for Expansion of Subzone 61F IPR Pharmaceuticals, Inc., Plant (Pharmaceuticals) Guayama, PR

Pursuant to its authority under the Foreign-Trade Zones Act of June 18, 1934, as amended (19 U.S.C. 81a-81u), the Foreign-Trade Zones Board (the Board) adopts the following Order:

Whereas, the Puerto Rico Exports Development Corporation, grantee of FTZ 61, has requested authority on behalf of IPR Pharmaceuticals, Inc., to expand the subzone boundaries and to expand the scope of manufacturing authority under zone procedures in terms of both products and capacity at Subzone 61F at the IPR Pharmaceutical, Inc., plant in Guayama, Puerto Rico (FTZ Docket 30-2002, filed 8/1/2002);

Whereas, notice inviting public comment has been given in the Federal Register (67 FR 51820, 8/09/02);

Whereas, the Board adopts the findings and recommendation of the examiner's report, and finds that the requirements of the FTZ Act and Board's regulations are satisfied, and that the proposal is in the public interest;

Now, therefore, the Board hereby orders: The application to add capacity and to expand the scope of authority under zone procedures within Subzone 61F on behalf of IPR Pharmaceuticals, Inc., is approved, subject to the FTZ Act and the Board's regulations, including Section 400.28.

Signed at Washington, DC, this 25th day of August 2003.
Jeffrey May,
Acting Assistant Secretary of Commerce for Import Administration, Alternate Chairman, Foreign-Trade Zones Board.
Dennis Puccinelli,
Executive Secretary.

[FR Doc. 03-23065 Filed 9-9-03; 8:45 am]

BILLING CODE 3510-DS-P